DEPARTMENT OF COMMERCE

International Trade Administration

[A-552-801]

Certain Frozen Fish Fillets From the Socialist Republic of Vietnam: Rescission, in Part, of Antidumping Duty Administrative Review

Agency: Import Administration, International Trade Administration, U.S. Department of Commerce.

SUMMARY: The Department of Commerce (“the Department”) is rescinding its administrative review of four companies under the antidumping duty order on certain frozen fish fillets from the Socialist Republic of Vietnam for the period January 1, 2003, through July 31, 2004. This rescission, in part, is based on the timely withdrawal of the request for review by the respective interested party that requested a review. A complete list of the companies for which the administrative review is being rescinded is provided in the Rescission, in Part, of Administrative Review section below. The Department is not rescinding its review of Can Tho Agricultural and Animal Products Import-Export Company (CATACO); Phan Quan Company, Ltd.; Phu Thanh Company, Co.; or Vinh Hoan Company, Ltd.

EFFECTIVE DATE: January 28, 2005.

FOR FURTHER INFORMATION CONTACT: Javier Barrientos or Alex Villanueva at (202) 482-2243 and (202) 482-3208, respectively, AD/CVD Operations, Office 9, Import Administration, International Trade Administration, U.S. Department of Commerce, 14th Street and Constitution Avenue, NW., Washington, DC 20230.

SUPPLEMENTARY INFORMATION:

Background

The Department published in the Federal Register an antidumping duty order on certain frozen fish fillets from the Socialist Republic of Vietnam on August 12, 2003 (68 FR 47909). Pursuant to its Notice of Opportunity to Request an Administrative Review, 69 FR 46496 (August 3, 2004), and in accordance with section 751(a)(1)(B) of the Tariff Act of 1930, as amended, and section 351.213(b) of the Department's regulations, the Department received timely requests for review from eight exporters: An Giang Fisheries Import and Export Joint Stock Company; An Giang Agriculture and Foods Import-Export Company (AFIEX); Can Tho Agricultural and Animal Products Import-Export Company (CATACO); Mekong Fisheries Joint Stock Company (MEKONIMEX); Phan Quan Company, Ltd.; Phu Thanh Company, Co.; QVD Food Co., Ltd.; and Vinh Hoan Company, Ltd. No other interested party requested a review.

On September 22, 2004, the Department published its Notice of Initiation of Antidumping and Countervailing Duty Administrative Reviews, Requests for Revocation in Part and Deferral of Administrative Review, 69 FR 56745 (September 22, 2004), initiating on all eight companies for which an administrative review was requested. The Department subsequently received timely withdrawal requests from four of the eight exporters that requested a review: An Giang Fisheries Import and Export Joint Stock Company (October 26, 2004); AFIEX (October 19, 2004); MEKONIMEX (November 5, 2004); and QVD Food Co., Ltd. (September 29, 2004).

Rescission, in Part, of Administrative Review

Pursuant to section 351.213(d)(1) of the Department's regulations, the Department may rescind an administrative review, “if a party that requested the review withdraws the request within 90 days of the date of publication of notice of initiation of the requested review.” Because four exporters have timely withdrawn their requests for an administrative review within the ninety-day period, and no other party requested a review of these companies, we are rescinding this administrative review, in part, for the period January 1, 2003, through July 31, 2004, for the following companies: An Giang Fisheries Import and Export Joint Stock Company; AFIEX; MEKONIMEX; and QVD Food Co., Ltd. However, we will continue the administrative review with respect to: CATACO; Phan Quan Company, Ltd.; Phu Thanh Company, Co.; and Vinh Hoan Company, Ltd., as these exporters individually submitted a request for review.

The Department will issue appropriate assessment instructions directly to the U.S. Customs and Border Protection (“CBP”) within 15 days of the publication of this notice. The Department will direct CBP to assess antidumping duties for these companies at the cash deposit rate in effect on the date of entry for entries during the period January 1, 2003, through July 31, 2004.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(2)(C) and 777(i)(1) of the Tariff Act of 1930, as amended.

Dated: January 18, 2005.
Gary Taverman,
Acting Deputy Assistant Secretary for Import Administration.

[FR Doc. E5-339 Filed 1-27-05; 8:45 am]

BILLING CODE 3510-DS-P